DEPARTMENT OF HEALTH AND HUMAN SERVICES

Meeting of the National Toxicology Program (NTP) Board of Scientific Counselors (BSC): Notice of Cancellation

AGENCY: National Toxicology Program (NTP), National Institute of Environmental Health Sciences (NIEHS), National Institutes of Health.

ACTION: Notice of meeting cancellation.

SUMMARY: The NTP BSC meeting, scheduled for July 21, 2011, and announced in the Federal Register (76 FR 28785), has been cancelled.

FOR FURTHER INFORMATION CONTACT: Dr. Lori White (telephone: 919-541-9834 or whiteld@niehs.nih.gov).

Dated: June 14, 2011.
John R. Bucher,
Associate Director, National Toxicology Program.

[FR Doc. 2011-15656 Filed 6-22-11; 8:45 am]

BILLING CODE 4140-01-P